DEPARTMENT OF COMMERCE

International Trade Administration

[A-570-967, C-570-968]

Aluminum Extrusions From the People's Republic of China: Notice of Amended Final Scope Rulings Pursuant to Court Decision

AGENCY: Enforcement and Compliance, International Trade Administration, Department of Commerce.

SUMMARY: On October 8, 2024, in the consolidated appeal of Worldwide Door Components, Inc., v. United States, Endura Products, INC., Court No. 2023-1532 and Columbia Aluminum Products, LLC, v. United States, Endura Products, INC., Court No. 2023-1534 (collectively, Worldwide Federal Circuit), the U.S. Court of Appeals for the Federal Circuit (Federal Circuit) reversed the U.S. Court of International Trade's (CIT) Second Remand Order, and sustained the non-protested portions of Commerce's First Remand Redeterminations. The Federal Circuit also vacated the CIT's subsequent opinions and orders in this case following the Second Remand Order. In the First Remand Redeterminations, Commerce continued to find that certain door thresholds imported by Worldwide Door Components, Inc. (Worldwide) and Columbia Aluminum Products, Inc. (Columbia) are within the scope of the antidumping (AD) and countervailing duty (CVD) orders on aluminum extrusions from the People's Republic of China (China). The CIT originally sustained Commerce's Third Remand Redeterminations finding the products in question outside the scope of the Orders under respectful protest, and on December 29, 2022, Commerce published a notice of court decisions not in harmony with its final scope ruling and notice of amended final scope ruling. However, consistent with the Federal Circuit's decision reversing and vacating the CIT's opinion and order, Commerce is now amending the final scope rulings, as they were represented in the Amended Final Scope Rulings, to find that the Worldwide and Columbia door thresholds at issue are subject to the Orders.

DATES: Applicable January 7, 2024.

FOR FURTHER INFORMATION CONTACT: Erin Kearney, AD/CVD Operations, Office VI, Enforcement and Compliance, International Trade Administration, U.S. Department of Commerce, 1401 Constitution Avenue NW, Washington, DC 20230; telephone: (202) 482-0167.

SUPPLEMENTARY INFORMATION:

Background

On December 19, 2018, Commerce issued its Final Scope Rulings ¹ that certain door thresholds imported by Worldwide and Columbia fall within the scope of the Orders.² Worldwide and Columbia appealed Commerce's Final Scope Ruling. On December 23, 2020, pursuant to the CIT's first remand orders in Worldwide I and Columbia I,³ Commerce issued its First Remand Redeterminations, in which Commerce continued to find that Worldwide's and Columbia's door thresholds were subassemblies included in the scope of the Orders and, therefore, failed to satisfy the requirements for the finished merchandise exclusion.⁴

¹ See Memorandum, “Antidumping and Countervailing Duty Order on Aluminum Extrusions from the People's Republic of China: Final Scope Rulings on Worldwide Door Components Inc., MJB Wood Group, Inc. and Columbia Door Thresholds,” dated December 19, 2018 (Final Scope Rulings).

² See Aluminum Extrusions from the People's Republic of China: Antidumping Duty Order, 76 FR 30650 (May 26, 2011); and Aluminum Extrusions from the People's Republic of China: Countervailing Duty Order, 76 FR 30653 (May 26, 2011) (collectively, the Orders).

³ See Worldwide Door Components, Inc. v. United States, 466 F. Supp. 3d 1370 (CIT 2020) (Worldwide I); and Columbia Aluminum Products, LLC v. United States, 470 F. Supp. 3d 1353 (CIT 2020) (Columbia I).

⁴ See Final Results of Redetermination Pursuant to Court Remand, Aluminum Extrusions from the People's Republic of China, Worldwide Door Components, Inc. v. United States, Court No. 19-00012, Slip Op. 20-128 (CIT August 27, 2020), dated December 23, 2020, available at https://access.trade.gov/resources/remands/20-128.pdf; Final Results of Redetermination Pursuant to Court Remand, Aluminum Extrusions from the People's Republic of China, Columbia Aluminum Products, LLC v. United States, Court No. 19-00013, Slip Op. 20-129 (CIT August 27, 2020), dated December 23, 2020, available at https://access.trade.gov/resources/remands/20-129.pdf (collectively, First Remand Redeterminations).

In Worldwide II and Columbia II, the CIT determined that Commerce impermissibly based its analysis in the First Remand Redeterminations on inferences that were contradicted or unsupported by other information on the record.⁵ The CIT directed Commerce to reconsider whether Worldwide's and Columbia's door thresholds required cutting or machining prior to incorporation into another product, and to determine whether Worldwide's and Columbia's door thresholds qualified for the finished merchandise exclusion.⁶ On December 13, 2021, Commerce issued its Second Remand Redeterminations, in which Commerce determined that Worldwide's and Columbia's door thresholds were excluded from the Orders as finished merchandise.⁷

⁵ See Worldwide Door Components, Inc. v. United States, 537 F. Supp. 3d 1403, 1404-05, 1408-09 (CIT 2021) (Worldwide II); and Columbia Aluminum Products, LLC v. United States, 536 F. Supp. 3d 1346 (CIT 2021) (Columbia II).

⁶ See Worldwide II, 537 F. Supp. 3d at 1404-05, 1414; and Columbia II, 536 F. Supp. 3d at 1354.

⁷ See Final Results of Redetermination Pursuant to Court Remand, Worldwide Door Components, Inc. v. United States, Court No. 19-00012, Slip Op. 21-115 (CIT September 14, 2021), dated December 13, 2021, available at https://access.trade.gov/resources/remands/21-115.pdf; Final Results of Redetermination Pursuant to Court Remand, Columbia Aluminum Products, LLC. v. United States, Court No. 19-00013, Slip Op. 21-116 (CIT September 14, 2021), dated December 13, 2021, available at https://access.trade.gov/resources/remands/21-116.pdf (collectively, Second Remand Redeterminations).

In Worldwide III and Columbia III, the CIT held that Commerce's Second Remand Redeterminations misconstrued aspects of the CIT's decision in Worldwide II and Columbia II and were not submitted in a form the CIT could sustain upon judicial review.⁸ The CIT directed Commerce to issue a new determination, in a form that would go into effect if sustained upon judicial review, determining whether the extruded aluminum components of Worldwide's and Columbia's door thresholds are within the scope of the Orders.⁹

⁸ See Worldwide III, 589 F. Supp. 3d 1185, 1192-95 (CIT 2022); and Columbia III, 587 F. Supp. 3d 1375, 1382-85 (CIT 2022).

⁹ See Worldwide III, 589 F. Supp. 3d at 1195; and Columbia III, 587 F. Supp. 3d at 1385.

In the Third Remand Redeterminations, Commerce continued to find, in accordance with the CIT's holdings, that Worldwide's and Columbia's door thresholds are outside the scope of the Orders based on the finished merchandise exclusion; Commerce also provided further explanation for the basis of that finding and clarified that Commerce did not intend to issue any other scope ruling or other agency determination subsequent to the CIT's order.¹⁰ The CIT subsequently sustained Commerce's remand redeterminations in Worldwide IV and Columbia IV.¹¹ On December 29, 2022, Commerce published a notice of court decisions not in harmony with its final scope ruling and notice of amended final scope ruling.¹²

¹⁰ See Final Results of Redetermination Pursuant to Court Remand, Worldwide Door Components, Inc. v. United States, Court No. 19-00012, Slip Op. 22-91 (CIT August 10, 2022), dated September 8, 2022, available at https://access.trade.gov/resources/remands//22-91.pdf; and Final Results of Redetermination Pursuant to Court Remand, Columbia Aluminum Products, LLC. v. United States, Court No. 19-00013, Slip Op. 22-92 (CIT August 10, 2022), dated September 8, 2022, available at https://access.trade.gov/resources/remands/22-92.pdf (collectively, Third Remand Redeterminations).

¹¹ See Worldwide Door Components, Inc. v. United States, 606 F. Supp. 3d 1363 (CIT 2022) (Worldwide IV); Columbia Aluminum Products, LLC v. United States, 607 F. Supp. 3d 1275 (CIT 2022) (Columbia IV).

¹² See Aluminum Extrusions from the People's Republic of China: Notice of Court Decisions Not in Harmony With Final Scope Ruling and Notice of Amended Final Scope Rulings Pursuant to Court Decisions, 87 FR 80160 (December 29, 2022) (First Amended Final Scope Rulings).

On October 8, 2024, the Federal Circuit reversed and the CIT and sustained the non-protested portions of Commerce's First Remand Redeterminations and vacated the CIT's subsequent opinions and orders.¹³ The Federal Circuit held that Commerce's finding in the First Remand Redeterminations that the Worldwide and Columbia door thresholds at issue are subassemblies covered by the scope of the Orders is supported by substantial evidence.¹⁴

¹³ See Worldwide Door Components, Inc. v. United States, 119 F.4th 959, 972 (Fed. Cir. 2024) (Worldwide Federal Circuit).

¹⁴ Id.

Second Amended Final Scope Ruling

Because there is now a final and conclusive court decision reinstating Commerce's scope rulings in the First Remand Redeterminations, we are amending the First Amended Final Scope Rulings with respect to Worldwide and Columbia's door thresholds.¹⁵ In accordance with the Federal Circuit's decision in Worldwide Federal Circuit, the Worldwide and Columbia door thresholds at issue in the Final Scope Rulings are subject to the Orders.

¹⁵ See First Amended Final Scope Rulings.

Accordingly, Commerce will instruct U.S. Customs and Border Protection (CBP) to continue to suspend liquidation of Worldwide and Columbia's door thresholds until appropriate liquidation instructions are sent. As of the date of publication of this notice in the Federal Register, the cash deposit rate for entries of Worldwide and Columbia's door thresholds will be the applicable cash deposit rate of the exporters of the merchandise from China to the United States.

Notification to Interested Parties

This notice is issued and published in accordance with sections 516A(c)(1) and (e)(1), and 777(i)(1) of the Tariff Act of 1930, as amended.

Dated: March 7, 2025.
Christopher Abbott,
Deputy Assistant Secretary for Policy and Negotiations, performing the non-exclusive functions and duties of the Assistant Secretary for Enforcement and Compliance.

[FR Doc. 2025-04006 Filed 3-12-25; 8:45 am]

BILLING CODE 3510-DS-P